DEPARTMENT OF ENERGY

Federal Energy Regulatory Commission

[Docket No. RP00-128-001]

Williams Gas Pipelines Central, Inc.; Notice of Proposed Changes in FERC Gas Tariff

January 27, 2000.

Take notice that on January 18, 2000, Williams Gas Pipelines Central, Inc. (Williams), tendered for filing to become part of its FERC Gas Tariff, Original Volume No. 1, Substitute Second Revised Sheet No. 6B, with the proposed effective date of January 1, 2000.

Williams states that on December 1, 1999, it made a filing pursuant to Article 13 of the General Terms and Conditions of its FERC Gas Tariff to reflect revised fuel and loss reimbursement percentages for the production and market areas and for storage. By order issued December 28, 1999 (order), the Commission accepted the filing to be effective January 1, 2000, subject to Williams filing within 20 days of the order, a revised tariff sheet and workpapers listing the revised fuel and loss reimbursement percentage for the production area that reflects the removal of the out-of-period adjustment of 219,080 Dth for fuel retained. This filing is being made to comply with the order. Williams reserves the right to modify this filing should the Commission modify its December 28, 1999 order.

Williams states that a copy of its filing was served on all participants listed on the service list maintained by the Commission in the docket referenced above and on all of Williams' jurisdictional customers and interested state commissions.

Any person desiring to protest this filing should file a protest with the Federal Energy Regulatory Commission, 888 First Street, N.E., Washington, D.C. 20426, in accordance with Section 385.211 of the Commission's Rules and Regulations. All such protests must be filed as provided in Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-2185 Filed 2-1-00; 8:45 am]

BILLING CODE 6717-01-M